DEPARTMENT OF HEALTH AND HUMAN SERVICES

Administration for Children and Families

[Program Announcement No. ACF/ACYF/HS 2000-07]

Fiscal Year 2000 Discretionary Announcement for Head Start—Higher Education Hispanic Service Partnerships Grants: Availability of Funds and Request for Proposals

AGENCY: Administration on Children, Youth and Families, ACF, DHHS.

ACTION: Notice.

Statutory Authority: The Head Start Act, as amended 42 U.S.C. 9801 et seq. CFDA: 93.600.

SUMMARY: The Administration for Children and Families, Administration on Children, Youth and Families, Head Start Bureau announces the availability of $1,000,000 in funds for one Priority Area: Head Start—Higher Education Hispanic Service Partnerships (HS-HEHSP). This priority area will support efforts to improve the quality and long-term effectiveness of Head Start and Early Head Start programs serving Hispanic children and their families by developing models of academic training and forming partnerships between the Higher Education Institutions and local Head Start and Early Head Start programs.

DATES: The closing date and time for receipt of application is July 12, 2000 at 5 p.m. (Eastern Time Zone).

Note: Applications should be submitted to the ACYF Operations Center at: HS-HEHSP, 1815 North Fort Myer Drive, Suite 300 Arlington, Virginia 22209. However, in order to satisfactorily compete under this announcement it will be necessary for potential applicants to read the full announcement with application guidelines, which is available through the addresses listed below.

ADDRESSES: Applications, including all necessary forms can be downloaded from the Head Start web site at www.acf.dhhs.gov/programs/hsb. The web site also contains a listing of all Head Start and Early Head Start programs. Hard copies of the application may be obtained by writing or calling the Operations Center or sending an e-mail to hsr@lcgnet.com.

FOR FURTHER INFORMATION CONTACT: ACYF Operations Center at: 1815 N. Fort Myer Drive, Suite 300, Arlington, Virginia 22209 or (1-800) 351-2293.

SUPPLEMENTARY INFORMATION: Priority Area: Head Start—Higher Education Hispanic Service Partnerships (HS-HEHSP).

Eligible Applicants: Institutions of Higher Education.

Project Duration: The Announcement for this Priority Area is soliciting applications for project periods of four years and with one-year budget period.

Federal Share of Project Costs. The maximum Federal share for each project is not to exceed $150,000 per year and is inclusive of indirect costs.

Matching Requirements: Although there are no matching requirements, applicants are encouraged to provide non-Federal contributions to the project.

Anticipated Number of Projects To Be Funded: It is anticipated that seven projects will be funded.

Criteria for Priority Area: Head Start Higher Education Hispanic Service Partnerships (HS-HEHSP).

Reviewers will consider the following factors when assigning points.

Criterion 1. Objectives and Need for Assistance: (20 Points)

The extent to which the application identifies relevant physical, economic, social, financial, institutional or other problems requiring a grant; demonstrates the need for assistance; and states the principal and subordinate objectives of the project.

Criterion 2. Results or Benefits Expected: (10 Points)

The extent to which the application identifies the results and benefits to be derived; describes the anticipated contribution to policy, practice, theory and/or research, specific benefits should be described for both the Higher Education Institution and Head Start/Migrant Head Start/Early Head Start partners.

Criterion 3. Approach: (40 Points)

The extent to which the application outlines an acceptable plan of action pertaining to the scope of the project which details how the proposed work will be accomplished, including a timeline; list of each organization, consultants, including the evaluator, or other key individuals who will work on the project along with a short description of the nature of their effort or contribution; and assures the adequacy of time devoted to the project by key staff. The key staff should be knowledgeable of Head Start, Migrant Head Start and Early Head Start. The applicant must fully describe the approach and/or methodology and delineate the relationship of each task to the accomplishment of the proposed objectives. There should be evidence that the planned approach reflects sufficient input from and partnership with Head Start/Migrant Head Start/Early Head Start and the Higher Education Institution.

Criterion 4. Staff and Position Data: (20 Points)

The extent of the demonstrated capacity of the applicant organization, key leaders, managers and project personnel to:

(1) Provide high quality, relevant, and responsive training to Head Start staff;

(2) Assure participating project staff are competent to plan and deliver appropriate course material to Head Start trainees that is culturally relevant;

(3) Manage the implementation of the training grant in an effective and timely manner; and

(4) Manage successful partnership that involve sharing resources, staffing, and facilities.

Criterion 5. Budget and Budget Justification (10 Points)

The extent to which the project's costs are reasonable and appropriate in view of the activities to be carried out and the anticipated outcomes. Provide a line item detail for the costs of attendance of two representatives of the project (one from the Higher Education Institution and one from the participating Head Start partner) to attend a two-day meeting in Washington, DC. It is the expectation that applicants should limit budget projections to those costs necessary to build institutional capacity for and execute training and career development partnerships with participating Head Start grantees.

Required Notification of the State Single Point of Contact

This program is covered under Executive Order 12372, Intergovernmental Review of Federal Programs, and 45 CFR part 100, Intergovernmental Review of Department of Health and Human Services Program and Activities. Under the Order, States may design their own processes for reviewing and commenting on proposal Federal assistance under covered programs.

* All States and Territories except Alabama, Alaska, Colorado, Connecticut, Hawaii, Idaho, Kansas, Louisiana, Massachusetts, Minnestoa, Montana, Nebraska, New Jersey, New York, Ohio, Oklahoma, Oregon, Pennsylvania, South Dakota, Tennessee, Vermont, Virginia, Washington, American Samoa and Palau have elected to participate in the Exchange Order process and have established Single Points of Contact (SPOCs). Applicants from these twenty-four jurisdictions need take no action regarding E.O. 12372. Applicants for projects to be administered by Federally-recognized Indian Tribes are also exempt from the requirements of E.O. 12372. Otherwise, applicants should contact their SPOCs as soon as possible to alert them of the prospective applications and receive any necessary instructions. Applicants must submit any required material to the SPOCs as soon as possible so that the program office can obtain and review SPOC comments as part of the award process. It is imperative that the applicant submit all required materials, if any, to the SPOC and indicate the date of this submittal (or the date of contact if no submittal is required) on the Standard Form 424, item 16a.

Under 45 CFR 100.8(a)(2), a SPOC has 60 days from the application deadline to comment on proposed new or competing continuation awards.

SPOCs are encouraged to eliminate the submission of routine endorsements as official recommendations.

Additonally, SPOCs are requested to clearly differentiate between mere advisory comments and those official State process recommendations which may trigger the accommodation or explain rule.

When comments are submitted directly to ACF, they should be addressed to: William Wilson, Head Start Bureau, 330 C Street, SW, Washington, DC 20447, Attn: Head Start-Higher Education Hispanic Service Partnerships. A list of the Single Points of Contact (SPOCs) for each State and Territory can be found on the following web site: http://www.whitehouse.gov/omb/grants/spoc.html.

Dated: May 10, 2000.
James A. Harrell,
Deputy Commissioner, Administration on Children, Youth and Families.

[FR Doc. 00-12375 Filed 5-16-00; 8:45 am]

BILLING CODE 4184-01-M